DEPARTMENT OF HOUSING AND URBAN DEVELOPMENT

[Docket No. FR-5600-FA-08]

Announcement of Funding Awards; Fair Housing Initiatives Program Fiscal Year 2012

AGENCY: Office of the Assistant Secretary for Fair Housing and Equal Opportunity, HUD.

ACTION: Announcement of funding awards.

SUMMARY: In accordance with section 102(a)(4)(C) of the Department of Housing and Urban Development Reform Act of 1989, this announcement notifies the public of funding decisions made by the Department for funding under the Notice of Funding Availability (NOFA) for the Fair Housing Initiatives Program (FHIP) for Fiscal Year (FY) 2012. This announcement lists the names and addresses of those award recipients selected for funding based on the rating and ranking of all applications and the amount of the awards.

FOR FURTHER INFORMATION CONTACT: Myron Newry, Director, FHIP Division, Office of Programs, Office of Fair Housing and Equal Opportunity, Department of Housing and Urban Development, 451 Seventh Street SW., Room 5230, Washington, DC 20410. Telephone number 202-402-7095 (this is not a toll-free number). Persons with hearing or speech impairments may access this number through TTY by calling the toll-free Federal Relay Service at 800-877-8339.

SUPPLEMENTARY INFORMATION: Title VIII of the Civil Rights Act of 1968, as amended, 42 U.S.C. 3601-19 (the Fair Housing Act) provides the Secretary of Housing and Urban Development with responsibility to accept and investigate complaints alleging discrimination based on race, color, religion, sex, handicap, familial status or national origin in the sale, rental, or financing of most housing. In addition, the Fair Housing Act directs the Secretary to coordinate with State and local agencies administering fair housing laws and to cooperate with and render technical assistance to public or private entities carrying out programs to prevent and eliminate discriminatory housing practices.

Section 561 of the Housing and Community Development Act of 1987, 42 U.S.C. 3616, established FHIP to strengthen the Department's enforcement of the Fair Housing Act and to further fair housing. This program assists projects and activities designed to enhance compliance with the Fair Housing Act and substantially equivalent State and local fair housing laws. Implementing regulations are found at 24 CFR part 125.

The Department published its Fair Housing Initiatives Program (FHIP) NOFA on February 16, 2012 announcing the availability of approximately $42,500,000 out of the Department's FY 2012 appropriation, to be utilized for FHIP projects and activities. Funding availability for discretionary grants included: the Private Enforcement Initiative (PEI) ($30,050,000), the Education and Outreach Initiative (EOI) ($5,880,000), and the Fair Housing Organizations Initiative (FHOI) ($5,250,000). This Notice announces grant awards of approximately $41,180,000.

For the FY 2012 NOFA, the Department reviewed, evaluated and scored the applications received based on the criteria in the FY 2012 NOFA. As a result, HUD has funded the applications announced in Appendix A, and in accordance with section 102(a)(4)(C) of the Department of Housing and Urban Development Reform Act of 1989 (103 Stat. 1987, 42 U.S.C. 3545), the Department is hereby publishing details concerning the recipients of funding awards in Appendix A of this document.

The Catalog of Federal Domestic Assistance Number for currently funded Initiatives under the Fair Housing Initiatives Program is 14.408.

Dated: July 6, 2012.
Bryan Greene,
General Deputy Assistant Secretary for Fair Housing and Equal Opportunity.

Appendix A—FY 2012 Fair Housing Initiatives Program Awards

Applicant name | Contact | Region | Award amt.
Education and Outreach/Affirmatively Furthering Fair Housing Component
Connecticut Fair Housing Center, Inc., 221 Main Street, Hartford, CT 06106 | Erin Kemple, 860-247-4400 | 1 | $125,000.00
Westchester Residential Opportunities, Inc., 470 Mamaroneck Avenue, Suite 410, White Plains, NY 10605 | Geoffrey Anderson, 914-428-4507 | 2 | 125,000.00
Housing Opportunities Project for Excellence, Inc., 11501 NW 2nd Avenue, Miami, FL 33168 | Keenya Robertson, 305-759-7755 | 4 | 125,000.00
Inland Mediation Board, 10681 Foothill Blvd., Suite 101, Rancho Cucamonga, CA 91730 | Lynne Anderson, 909-984-2254 | 9 | 125,000.00
Education and Outreach/General Component
Connecticut Fair Housing Center, Inc., 221 Main Street, Hartford, CT 06106 | Erin Kemple, 860-247-4400 | 1 | 125,000.00
Fair Housing Center of Greater Boston, 59 Temple Place, Suite 1105, Boston, MA 02111 | Whitney Sands, 617-399-0491 | 1 | 124,999.72
Fair Housing Justice Center, Inc., 5 Hanover Square, 17th Floor, New York, NY 10004 | Fred Freiberg, 212-400-8201 | 2 | 124,000.00
Westchester Residential Opportunities, Inc., 470 Mamaroneck Avenue, Suite 410, White Plains, NY 10605 | Geoffrey Anderson, 914-428-4507 | 2 | 125,000.00
Housing Counseling Services, 2410 17th Street NW., Suite 100, Washington, DC 20019 | Marian Siegel, 202-667-7006 | 3 | 125,000.00
Piedmont Housing Alliance, 1215 East Market Street, Suite B, Charlottesville, VA 22902 | Karen Reifenberger, 434-817-2436 | 3 | 62,757.00
Southwestern Pennsylvania Legal Services, Inc., 10 West Cherry Ave., Washington, PA 15301 | Robert Brenner, 724-225-6170 | 3 | 125,000.00
United Neighborhood Centers of Northeastern Pennsylvania, 425 Alder Street, Scranton, PA 18505 | Michael Hanley, 570-346-0759 | 3 | 96,904.00
Legal Aid Society of Palm Beach County, Inc., 423 Fern Street, Suite 200, West Palm Beach, FL 33401 | Robert Bertisch, 561-655-8944 | 4 | 125,000.00
Fair Housing Center of West Michigan, 20 Hall Street SE., Grand Rapids, MI 49507 | Nancy Haynes, 616-451-2980 | 5 | 46,904.28
Fair Housing Resource Center, 1100 Mentor Ave., P.O. Box 1578, Painesville, OH 44077 | Patricia Kidd, 440-392-0147 | 5 | 125,000.00
HOPE Fair Housing Center 2100 Manchester Road, Bldg. C-1620, Wheaton, IL 60187 | Shirley Stacy, 630-690-6500 | 5 | 124,834.00
Metropolitan Milwaukee Fair Housing Council, 600 East Mason Street, Suite 401, Milwaukee, WI 53202 | William Tisdale, 414-278-1240 | 5 | 124,814.00
Fair Housing Council of Oregon, 506 SW. 6th Avenue, Suite 1111, Portland, OR 97204 | Moloy Good, 503-223-8197 | 10 | 125,000.00
Education and Outreach Initiative/Higher Education Component
Fair Housing Center of Greater Boston, 59 Temple Place, Suite 1105, Boston, MA 02111 | Whitney Sands, 617-399-0491 | 1 | 99,999.97
University of Maryland, Baltimore, 620 W. Lexington Street, 4th Floor, Baltimore, MD 21201 | Leerin Shields, 410-706-5542 | 1 | 100,000.00
John Marshall Law School, 315 S. Plymouth Court, CBA 800, Chicago, IL 60604 | Michael Seng, 312-987-2397 | 5 | 99,787.00
Education and Outreach Initiative/Lending Component
Neighborhood Economic Development Advocacy Project, 176 Grand Street, Suite 300, New York, NY 10013 | Sarah Ludwig, 212-680-5100 | 2 | 125,000.00
Westchester Residential Opportunities, Inc., 470 Mamaroneck Avenue, Suite 410, White Plains, NY 10605 | Geoffrey Anderson, 914-428-4507 | 2 | 125,000.00
Housing Counseling Services, 2410 17th Street NW., Suite 100, Washington, DC 20009 | Marian Siegel, 202-676-7006 | 3 | 125,000.00
Southwestern Pennsylvania Legal Services, Inc., 10 West Cherry Avenue, Washington, PA 15301 | Robert Brenner, 724-225-6170 | 3 | 125,000.00
St. Martin Center, Inc., 1701 Parade Street, Erie, PA 16503 | David Pesch, 814-452-6113 | 3 | 125,000.00
Legal Aid Society of Palm Beach County, Inc., 423 Fern Street, Suite 200, West Palm Beach, FL 33401 | Robert Bertisch, 561-655-8944 | 4 | 125,000.00
Mid-Florida Housing Partnership Inc., 1834 Mason Avenue, Daytona Beach, FL 32114 | Francine Gordon, 386-274-4441 | 4 | 125,000.00
Mobile Fair Housing Center, Inc., P.O. Box 161202, Mobile, AL 36616 | Teresa Bettis, 251-479-1532 | 4 | 125,000.00
Fair Housing Opportunities, Inc., dba Fair Housing Center, 432 N. Superior, Toledo, OH 43604 | Michael Marsh, 419-243-6163 | 5 | 125,000.00
Housing Opportunities Made Equal of Greater Cincinnati, Inc., 2400 Reading Road, Suite 118, Cincinnati, OH 45202 | Elizabeth Brown, 513-721-4663 | 5 | 124,889.14
John Marshall Law School, 315 S. Plymouth Court, CBA 800, Chicago, IL 60604 | Michael Seng, 312-987-2397 | 5 | 97,133.00
Miami Valley Fair Housing Center, Inc., 21 East Babbitt Street, Dayton, OH 45405 | Jim McCarthy, 937-223-6035 | 5 | 125,000.00
Minneapolis Urban League, 2100 Plymouth Avenue North, Minneapolis, MN 55411 | Nicholas Jaeger, 612-302-3164 | 5 | 29,988.91
Greater New Orleans Fair Housing Action Center, Inc., 404 South Jefferson Davis Parkway, New Orleans, LA 70119 | James Perry, 504-596-2100 | 6 | 125,000.00
Fair Housing Council of Riverside County, Inc., 3933 Mission Inn Avenue, Riverside, CA 92501 | Rose Mayes, 951-682-6581 | 9 | 238,413.00
Southwest Fair Housing Council, 2030 E. Broadway Blvd., Suite 101, Tucson, AZ 85719 | Richard Rhey Jr., 520-798-1568 | 9 | 122,989.00
Northwest Fair Housing Alliance, 35 W. Main, Suite 250, Spokane, WA 99201 | Marley Hochendoner, 509-209-2667 | 10 | 124,999.95
Education and Outreach Initiative—National Media Campaign Component
National Fair Housing Alliance, 1101 Vermont Avenue NW., Suite 710, Washington, DC 20005 | Catherine Cloud, 202-898-1661 | 3 | 1,499,912.00
Fair Housing Organizations Initiative—Continuing Development Component General
Northern West Virginia Center For Independent Living, 601 East Brockway Avenue, Suites A & B, Morgantown, WV 26501 | Jan Derry, 304-296-6091 | 3 | 143,571.43
St. Martin Center, Inc., 1701 Parade Street, Erie, PA 16503 | David Pesch, 814-452-6113 | 3 | 325,000.00
Legal Aid of North Carolina, Inc., 224 S. Dawson Street, Raleigh, NC 27601 | Jeffrey Dillman, 919-861-1884 | 4 | 325,000.00
Savannah-Chatham County Fair Housing Council, Inc., 7 Drayton Street, Suite 206, Savannah, GA 31401 | David Wayne Dawson, 912-651-3136 | 4 | 177,375.00
North Texas Fair Housing Center, 8625 King George Drive, Suite 130, Dallas, TX 75235 | Frances Espinoza, 469-941-0383 | 6 | 261,589.00
Fair Housing Council of Oregon, 506 SW. 6th Avenue, Suite 1111, Portland, OR 97204 | Moloy Good, 503-223-8197 | 10 | 325,000.00
Fair Housing Organizations Initiative/Establishing New Organizations Component
National Community Reinvestment Coalition, 727 15th Street NW., Suite 900, Washington, DC 20005 | David Berenbaum, 202-628-8866 | 3 | 1,249,885.84
Fair Housing Organizations Initiative/Lending Component
Brooklyn Legal Services Corp. A, 260 Broadway, Brooklyn, NY 11211 | Gloria Ramon, 718-487-2328 | 2 | 325,000.00
Fair Housing Justice Center, Inc., 5 Hanover Square, 17th Floor, New York, NY 10004 | Fred Freiberg, 212-400-8201 | 2 | 324,999.00
LSNY-Bronx Corporation, dba Legal Services NYC-Bronx, 579 Courtlandt Avenue, Bronx, NY 10451 | Justin Haines, 718-928-2894 | 2 | 325,000.00
Lawyers' Committee for Civil Rights Under Law, 1401 New York Avenue NW., Suite 400, Washington, DC 20005 | Kathleen McEnerny, 202-662-8314 | 3 | 324,323.00
Fair Housing Center for the Gulf, Gulf Coast Region of Mississippi, 640 Highway 90, Suite A, Waveland, MS 39576 | Charmel Gaulden, 228-396-4008 | 4 | 325,000.00
Housing and Economic Rights Advocates, 1814 Franklin Street, Suite 1040, Oakland, CA 94612 | Maeve Brown, 510-271-8443 | 9 | 168,261.00
Inland Mediation Board, The City Center Building, 10681 Foothill Blvd., Suite 101, Rancho Cucamon, CA 91730 | Lynn Anderson, 909-984-2254 | 9 | 325,000.00
Fair Housing Council of Oregon, 506 SW 6th Avenue, Suite 1111, Portland, OR 97204 | Moloy Good, 503-223-8197 | 10 | 325,000.00
Private Enforcement Initiative/Lending Component
Community Legal Aid, Inc., 405 Main Street, Worcester, MA 01608 | Jonathan Mannina, 508-752-3718 | 1 | 183,500.00
MFY Legal Services, Inc., 299 Broadway, New York, NY 10007 | Jeanette Zelhof, 212-417-3727 | 2 | 325,000.00
South Brooklyn Legal Services, Inc., 105 Court Street, Brooklyn, NY 11201 | Meghan Faux, 718-246-3276 | 2 | 325,000.00
Westchester Residential Opportunities, Inc., 470 Mamaroneck Avenue, Suite 410, White Plains, NY 10605 | Geoffrey Anderson, 914-428-4507 | 2 | 212,066.00
National Fair Housing Alliance, 1101 Vermont Avenue NW., Washington, DC 20005 | Catherine Cloud, 202-898-1661 | 3 | 324,999.00
Community Legal Services of Mid-Florida, Inc., 128 Orange Avenue, Suite 300, Daytona Beach, FL 32119 | Suzanne Edmunds, 386-255-6573 | 4 | 325,000.00
Housing Opportunities Project for Excellence, Inc., 11501 NW. 2nd Avenue, Miami, FL 33168 | Keenya Robertson, 305-759-7755 | 4 | 325,000.00
Jacksonville Area Legal Aid, Inc., 126 West Adams Street, Jacksonville, FL 32202 | Kim Martyn, 904-356-8371 | 4 | 324,966.00
Legal Aid Society of Palm Beach County, Inc., 423 Fern Street, Suite 200, West Palm Beach, FL 33401 | Robert Bertisch, 561-655-8944 | 4 | 325,000.00
Fair Housing Opportunities, Inc., dba Fair Housing Center, 432 N. Superior, Toledo, OH 43604 | Michael Marsh, 419-243-6163 | 5 | 325,000.00
Legal Aid Society of Minneapolis, Member of Mid-MN Legal Association, 430 First Avenue North, Suite 300, Minneapolis, MN 55401 | Lisa Cohen, 612-746-3770 | 5 | 325,000.00
Metropolitan Milwaukee Fair Housing Council, 600 East Mason Street, Suite 401, Milwaukee, WI 53202 | William Tisdale, 414-278-1240 | 5 | 311,322.00
Miami Valley Fair Housing Center, Inc., 21 East Babbitt Street, Dayton, OH 45405 | Jim McCarthy, 937-223-6035 | 5 | 325,000.00
South Suburban Housing Center, 18220 Harwood Avenue, Suite 1, Homewood, IL 60430 | John Petruszak, 708-957-4674 | 5 | 303,000.00
Greater New Orleans Fair Housing Action Center, Inc., 404 South Jefferson Davis Parkway, New Orleans, LA 70119 | James Perry, 504-596-2100 | 6 | 325,000.00
California Rural Legal Assistance, Inc., 631 Howard Street, Suite 300, San Francisco, CA 94105 | Ilene Jacobs, 530-742-0694 | 9 | 325,000.00
Fair Housing of Marin, 615 B Street, San Rafael, CA 94901 | Nancy Kenyon, 415-457-5025 | 9 | 277,452.00
Southwest Fair Housing Council, 2030 E. Broadway Blvd., Suite 101, Tucson, AZ 85719 | Richard Rhey, 520-798-1568 | 9 | 312,695.00
Private Enforcement Initiative/Multi-Year Component
Connecticut Fair Housing Center, Inc., 221 Main Street, Hartford, CT 06106 | Erin Kemple, 860-247-4400 | 1 | 325,000.00
Fair Housing Center of Greater Boston, 59 Temple Place, Boston, MA 02111 | Whitney Sands, 617-399-0491 | 1 | 325,000.00
Vermont Legal Aid, Inc., 264 North Winooski Avenue, Burlington, Vermont 05402 | Rachel Batterson, 802-863-5620 | 1 | 324,987.00
Fair Housing Council of Central New York, Inc., 327 W. Fayette Street, Syracuse, NY 13202 | Merrilee Witherell, 315-471-0420 | 2 | 322,025.00
Fair Housing Justice Center, Inc., 5 Hanover Square, 17th Floor, New York, NY 10004 | Fred Freiberg, 212-400-8232 | 2 | 325,000.00
Housing Opportunities Made Equal Inc., 700 Main Street, 3rd Floor, Buffalo, NY 14202 | Scott Gehl, 716-854-1400 | 2 | 308,167.00
Legal Services NYC Staten Island, 36 Richmond Terrace, Staten Island, NY 10301 | Nancy Goldhill, 718-233-6490 | 2 | 325,000.00
Westchester Residential Opportunities, Inc., 470 Mamaroneck Avenue, Suite 410, White Plains, NY 10605 | Geoffrey Anderson, 914-428-4507 | 2 | 227,315.00
Baltimore Neighborhoods, Inc., 2217 St. Paul Street, Baltimore, MD 21218 | Elijah Etheridge, 410-243-4468 | 3 | 324,411.00
Community Legal Aid Society, Inc., 100 West 10th Street, Suite 801, Wilmington, DE 1980 | Nancy Goldhill, 718-233-6490 | 3 | 307,500.00
Fair Housing Council of Suburban Philadelphia, Inc., 455 Maryland Drive, Suite 190, Fort Washington, PA 19034 | James Berry, 267-419-8918 | 3 | 324,877.00
Fair Housing Partnership of Greater Pittsburgh, 2840 Liberty Avenue, Suite 205, Pittsburgh, PA 15222 | Peter Harvey, 412-391-2535 | 3 | 325,000.00
Fair Housing Right Center in Southeastern Pennsylvania, 105 W. Glenside Avenue, Suite E, Glenside, PA 19038 | Angela McIver, 215-576-7711 | 3 | 324,000.00
National Fair Housing Alliance, 1101 Vermont Avenue NW., Washington, DC 20005 | Catherine Cloud, 202-898-1661 | 3 | 325,000.00
Southwestern Pennsylvania Legal Services, Inc., 10 West Cherry Ave., Washington, PA 15301 | Robert Brenner, 724-225-6170 | 3 | 325,000.00
Bay Area Legal Services, Inc., 829 W. Dr. MLK, Jr., Blvd., Suite 200, Tampa, FL 33603 | Richard Woltmann, 813-232-1222 | 4 | 292,920.00
Central Alabama Fair Housing Center, 2867 Zelda Road, Montgomery, AL 36106 | Faith Cooper, 334-263-4663 | 4 | 324,000.00
Community Legal Services of Mid-Florida, Inc., 128 Orange Avenue, Daytona Beach, FL 32119 | Suzanne Edmunds, 386-255-6573 | 4 | 325,000.00
Fair Housing Center of the Greater Palm Beaches, Inc., 1300 W. Lantana Road, Suite 200, Lantana, FL 33462 | Vince Larkins, 561-533-8717 | 4 | 321,722.66
Fair Housing Continuum, Inc., 4760 N. Hwy. US1, Suite 203, Melbourne, FL 32935 | David Baade, 321-757-3532 | 4 | 320,667.00
Jacksonville Area Legal Aid, Inc.,126 West Adams Street, Jacksonville, FL 32202 | Kim Martyn, 904-356-8371 | 4 | 324,902.00
Legal Aid Society of Palm Beach County, Inc., 423 Fern Street, Suite 200, West Palm Beach, FL 33401 | Robert Bertisch, 561-655-8944 | 4 | 313,246.00
Lexington Fair Housing Council, Inc., 207 E. Reynolds Road, Suite 130, Lexington, KY 40517 | Arthur Crosby, 859-971-8067 | 4 | 296,996.00
Metro Fair Housing Services, Inc., 1514 East Cleveland Avenue, Suite 118, East Point, GA 30344 | Foster Corbin, 404-765-3985 | 4 | 325,000.00
Mobile Fair Housing Center, Inc., P.O. Box 161202, Mobile, AL 36616 | Teresa Bettis, 251-479-1532 | 4 | 319,795.33
Tennessee Fair Housing Council, Inc., 107 Music City Circle, Suite 318, Nashville, TN 37214 | Tracey McCartney, 615-874-2344 | 4 | 325,000.00
West Tennessee Legal Services, Inc., 210 West Main Street, Jackson, TN 38301 | John Xanthopoulos, 731-426-1311 | 4 | 325,000.00
Fair Housing Center of Metropolitan Detroit, 220 Bagley Street, Suite 102, Detroit, MI 48226 | Clifford Schrupp, 313-963-1274 | 5 | 299,525.00
Fair Housing Center of Southeastern Michigan, P.O. Box 7825, Ann Arbor, MI 48107 | Pamela Kisch, 734-994-3426 | 5 | 275,765.00
Fair Housing Center of West Michigan, 20 Hall Street SE., Grand Rapids, MI 49507 | Nancy Haynes, 616-451-2980 | 5 | 325,000.00
Fair Housing Contact Services, Inc., 441 Wolf Ledges Parkway, Suite 200, Akron, OH 44311 | Tamela Skipper, 330-376-6191 | 5 | 325,000.00
Fair Housing Opportunities, Inc., dba Fair Housing Center, 432 N. Superior, Toledo, OH 43604 | Michael Marsh, 419-243-6163 | 5 | 325,000.00
Fair Housing Resource Center, Inc., 1100 Mentor Avenue, Painesville, OH 44077 | Patricia Kidd, 440-392-0147 | 5 | 325,000.00
HOPE Fair Housing Center, 2100 Manchester Road, C-1620, Wheaton, IL 60187 | Shirley Stacy, 630-690-6500 | 5 | 324,020.00
John Marshall Law School, 315 Plymouth Court, CBA 800, Chicago, IL 60604 | Michael Seng, 312-986-2397 | 5 | 279,951.33
Legal Services of Eastern Michigan, 436 S. Saginaw Street, Suite 101, Flint, MI 48502 | Teresa Trantham, 810-234-2621 | 5 | 266,448.00
Metropolitan Milwaukee Fair Housing Council, Inc., 600 East Mason Street, Milwaukee, WI 53202 | William Tisdale, 414-278-1240 | 5 | 322,629.00
Miami Valley Fair Housing Center, Inc., 21 East Babbitt Street, Dayton, OH 45405 | Jim McCarthy, 937-223-6035 | 5 | 325,000.00
South Suburban Housing Center, 18220 Harwood Avenue, Suite 1, Homewood, IL 60430 | John Petruszak, 708-957-4674 | 5 | 324,775.00
Greater New Orleans Fair Housing Action Center, Inc., 404 South Jefferson Davis Parkway, New Orleans, LA 70119 | James Perry, 504-596-2100 | 6 | 325,000.00
San Antonio Fair Housing Council, Inc., 4414 Centerview Drive, Suite 229, San Antonio, TX 78228 | Sandra Tamez, 210-733-3247 | 6 | 325,000.00
Family Housing Advisory Services, Inc., 2401 Lake Street, Omaha, NE 68111 | Joseph Garcia, 402-934-6669 | 7 | 325,000.00
Montana Fair Housing, Inc., 519 East Front Street, Butte, MT 59701 | Pamela Bean, 406-782-2573 | 8 | 167,900.00
Arizona Fair Housing Center, 615 N. 5th Avenue, Phoenix, AZ 85003 | Edward Valenzuela, 602-548-1599 | 9 | 317,651.00
California Rural Legal Assistance, Inc., 631 Howard Street, Suite 300, San Francisco, CA 94105 | Ilene Jacobs, 530-742-7235 | 9 | 325,000.00
Fair Housing Council of Central California, 333 W. Shaw Avenue, Suite 14, Fresno, CA 93704 | Marilyn Borelli, 559-244-2950 | 9 | 259,034.00
Fair Housing Council of Riverside County, Inc., 3933 Mission Inn Avenue, Riverside, CA 92501 | Rose Mayes, 951-682-6581 | 9 | 284,894.00
Greater Bakersfield Legal Assistance, Inc., 615 California Avenue, Bakersfield, CA 93304 | Estela Casas, 661-334-4660 | 9 | 302,069.00
Greater Napa Fair Housing Center, 603 Cabot Way, Napa, CA 94559 | Nicole Collier, 707-224-9720 | 9 | 309,000.00
Legal Aid Society of Hawaii, 924 Bethel Street, Honolulu, HI 96813 | Elise Von Dohlen, 808-527-8056 | 9 | 325,000.00
Orange County Fair Housing, 201 S. Broadway, Santa Ana, CA 92701 | David Levy, 714-569-0823 | 9 | 141,000.00
Silver State Fair Housing Council, 855 E. Forth Street, Suite E, Reno, NV 89512 | Katherine Knister, 775-324-0990 | 9 | 325,000.00
Southern California Housing Rights Center, 520 South Virgil Avenue, Suite 400, Los Angeles, CA 90020 | Chancela Al-Mansour, 213-387-8400 | 9 | 324,980.00
Southwest Fair Housing Council, 2030 E. Broadway Blvd., Suite 101, Tucson, AZ 85719 | Richard Rhey, 520-798-1568 | 9 | 311,245.00
Fair Housing Center of Washington, 1517 South Fawcett, Suite 25, Tacoma, WA 983402 | Lauren Walker, 253-274-9523 | 10 | 325,000.00
Intermountain Fair Housing Council, Inc., 350 N. 9th Street, Suite M 200, Boise, ID 83702 | Richard Mabbutt, 208-383-0695 | 10 | 324,630.00
Private Enforcement Initiative/Performance Base Component
Housing Discrimination Project, 57 Suffolk Street, Holyoke, MA 01040 | Meris Bergquist, 413-539-9796 | 1 | 325,000.00
Pine Tree Legal Assistance, 88 Federal Street, Portland, ME 04101 | Nan Heald, 207-774-4753 | 1 | 325,000.00
Fair Housing Council of Northern New Jersey, 131 Main Street, Suite 140, Hackensack, NJ 07601 | Lee Porter, 201-489-3552 | 2 | 325,000.00
South Brooklyn Legal Services, Inc., 105 Court Street, Brooklyn, NY 11201-5658 | Meghan Fauz, 718-246-3276 | 2 | 325,000.00
Equal Rights Center, 11 Dupont Circle NW., Suite 450, Washington, DC 20036 | Sean Maloney, 202-370-3209 | 3 | 325,000.00
Housing Opportunities Project for Excellence, Inc., 18441 NW 2nd Avenue, Suite 218, Miami Gardens, FL 33169 | Keenya Robertson, 305-759-7755 | 4 | 325,000.00
Access Living of Metropolitan Chicago, 115 West Chicago Avenue, Chicago, IL 60654 | Jason Gilmore, 312-640-2185 | 5 | 325,000.00
Chicago Lawyers' Committee for Civil Rights Under Law, Inc., 100 North LaSalle Street, Suite 600, Chicago, IL 60602 | Jay Readey, 312-630-9744 | 5 | 325,000.00
Fair Housing Center of Southwest Michigan, 410 E. Michigan, Kalamazoo, MI 49007 | Robert Ellis, 269-276-9100 | 5 | 302,766.00
Housing Opportunities Made Equal of Greater Cincinnati, Inc., 2400 Reading Road, Suite 118, Cincinnati, OH 45202-1458 | Elizabeth Brown, 513-721-4663 | 5 | 324,359.00
Housing Research & Advocacy Center, 3631 Perkins Ave., Suite 3A-2, Cleveland, OH 44114 | Hilary King, 216-361-9240 | 5 | 325,000.00
Interfaith Housing Center of the Northern Suburbs, 614 Lincoln Avenue, Winnetka, IL 60093 | Gail Schechter, 847-501-5760 | 5 | 235,687.00
Legal Aid Society of Minneapolis, 430 First Avenue North, Suite 300, Minneapolis, MN 55401 | Lisa Cohen, 612-746-3770 | 5 | 325,000.00
Legal Assistance of Western NY Inc., 1 West Main Street, Rochester, NY 14614 | Louis Prieto, 585-292-5610 | 5 | 277,000.00
Austin Tenants Council Inc., 161 Cesar Chevaz Street, Austin, TX 78702 | Katherine Stark, 512-474-7007 | 6 | 324,723.00
Greater Houston Fair Housing Center, Inc., P.O. Box 292, Houston, TX 77001 | Daniel Bustamante, 713-641-3247 | 6 | 325,000.00
Metropolitan Fair Housing Council of Oklahoma, Inc., 1500 NE 4th Street, Suite 204, Oklahoma City, OK 73117 | Mary Dulan, 405-765-3985 | 6 | 324,808.00
Metropolitan St. Louis Equal Housing Opportunity Council, 1027 S. Vandeventer Avenue, 6th Floor, St. Louis, MO 63110 | Willie Jordan, 314-448-9063 | 7 | 272,614.00
Bay Area Legal Aid, 405 14th Street, Oakland, CA 94612 | Jaclyn Pinero, 510-663-4755 | 9 | 325,000.00
Fair Housing of Marin, 615 B Street, San Rafael, CA 94901 | Nancy Kenyon, 415-457-5025 | 9 | 324,997.00
Inland Mediation Board, The City Center Building, 10681 Foothill Blvd., Rancho Cucamor, CA 91730 | Lynne Anderson, 909-984-2254 | 9 | 325,000.00
Fair Housing Council of Oregon, 506 SW 6th Avenue, Suite 1111, Portland, OR 97204 | Moloy Good, 503-223-8197 | 10 | 325,000.00
Northwest Fair Housing Alliance, 35 W. Main, Spokane, WA 99201 | Marley Hochendoner, 509-209-2667 | 10 | 325,000.00

[FR Doc. 2012-17131 Filed 7-12-12; 8:45 am]

BILLING CODE 4210-67-P